DEPARTMENT OF DEFENSE

Department of the Army Corps of Engineers

Inland Waterways Users Board; Meeting

AGENCY: Department of the Army, U.S. Army Corps of Engineers, DoD.

ACTION: Notice of open meeting.

SUMMARY: In Accordance with 10(a)(2) of the Federal Advisory Committee Act, Public Law (92-463), announcement is made of the next committee meeting.

Name of Committee: Inland Waterways Users Board.

Date: April 25, 2002.

Location: Convention and Trade Center, One Carter Plaza, Chattanooga, Tennessee (1-800-841-1674).

Time: 7:30 am to 1 pm.

FOR FURTHER INFORMATION CONTACT: Mr. Norman T. Edwards, Headquarters, US Army Corps of Engineers, CECW-PD, 441 G Street, NW., Washington, DC 20314-1000; Ph: 202-761-4559.

SUPPLEMENTARY INFORMATION: Registration will begin at 7:30 am and the meeting is scheduled to adjourn at 1 pm. The meeting is open to the public. Any interested person may attend, appear before, or file statements with the committee at the time and in the manner permitted by the committee.

Luz D. Ortiz,
Army Federal Register Liaison Officer.

[FR Doc. 02-6868 Filed 3-20-02; 8:45 am]

BILLING CODE 3710-92-M